DEPARTMENT OF THE INTERIOR

National Park Service

[NPS-NER-GETT-24089; PPMPSPD1Z.YM0000, PPNEGETTS1]

Cancellation of September 14, 2017, Meeting of the Gettysburg National Military Park Advisory Commission

AGENCY: National Park Service, Interior.

ACTION: Cancellation of meeting.

SUMMARY: In accordance with the Federal Advisory Committee Act, notice is hereby given that the September 14, 2017, meeting of the Gettysburg National Military Park Advisory Commission previously announced in the Federal Register, Vol. 82, January 19, 2017, pp. 6641-6642, is cancelled.

FOR FURTHER INFORMATION CONTACT: Bill Justice, Acting Superintendent and Designated Federal Official, Gettysburg National Military Park, 1195 Baltimore Pike, Suite 100, Gettysburg, Pennsylvania 17325, at (717) 334-1124 or via email bill_justice@nps.gov.

SUPPLEMENTARY INFORMATION: The Commission was established by Public Law 101-377 (16 U.S.C. 430g-8), to advise the Secretary of the Interior on the coordination of the management of the Gettysburg National Military Park and Gettysburg Battlefield Historic District with local jurisdictions.

Alma Ripps,
Chief, Office of Policy.

[FR Doc. 2017-22379 Filed 10-16-17; 8:45 am]

BILLING CODE 4312-52-P